DEPARTMENT OF THE INTERIOR

Fish and Wildlife Service

2007 Migratory Bird Hunting and Conservation Stamp (Federal Duck Stamp) Contest

AGENCY: Fish and Wildlife Service, Interior.

ACTION: Notice.

SUMMARY: We, the U.S. Fish and Wildlife Service (Service) announce the dates and location of the 2007 Federal Duck Stamp contest, and the species eligible to be subjects for this year's designs. We invite the public to enter and to attend. The 2007 contest will select the image that will grace the 75th Federal Migratory Bird Hunting and Conservation Stamp.

DATES: The public may first view the 2007 Federal Duck Stamp Contest entries on Tuesday, September 25, 2007 from 10 a.m. to 4 p.m.

1. Judging will be held on Friday, October 12, 2007 beginning at 1 p.m. and on Saturday, October 13, 2007 beginning at 9 a.m., at the Sanibel, FL location.

ADDRESSES: Requests for complete copies of the contest rules, reproduction rights agreement, and display and participation agreement by calling 1-703-358-2000, or by writing to: Federal Duck Stamp Contest, U.S. Fish and Wildlife Service, Department of the Interior, 4401 North Fairfax Drive, Mail Stop MBSP-4070, Arlington, VA 22203-1622. You may also download the information from the Federal Duck Stamp Web site at http://duckstamps.fws.gov.

The contest will be held in Sanibel, Florida at the Big Arts Center, 900 Dunlop Road, Sanibel, FL 33957. Phone (239)395-0900.

FOR FURTHER INFORMATION CONTACT: Laurie Shaffer, Federal Duck Stamp Office, (703) 358-2002, or by e-mail Laurie_Shaffer@fws.gov or fax at (703) 358-2009.

SUPPLEMENTARY INFORMATION:

Background

On March 16, 1934, Congress passed and President Franklin Roosevelt signed the Migratory Bird Hunting Stamp Act. Popularly known as the Duck Stamp Act, it required all waterfowl hunters 16 years or older to buy a stamp annually. The revenue generated was originally earmarked for the Department of Agriculture, but 5 years later was transferred to the Department of the Interior and the U.S. Fish and Wildlife Service to buy or lease waterfowl sanctuaries. Regulations governing the contest appear at 50 CFR part 91.

In the years since its enactment, the Federal Duck Stamp Program has become one of the most popular and successful conservation programs ever initiated. Today, some 1.8 million stamps are sold each year, and as of 2005, Federal Duck Stamps have generated more than $700 million for the preservation of more than 5.2 million acres of waterfowl habitat in the United States. Numerous other birds, mammals, fish, reptiles, and amphibians have similarly prospered because of habitat protection made possible by the program. An estimated one-third of the Nation's endangered and threatened species find food or shelter in refuges preserved by Duck Stamp funds. Moreover, the protected wetlands help dissipate storms, purify water supplies, store flood water, and nourish fish hatchlings important for sport and commercial fishermen.

The Contest

The first Federal Duck Stamp was designed at President Franklin Roosevelt's request by Jay N. “Ding” Darling, a nationally known political cartoonist for the Des Moines Register and a noted hunter and wildlife conservationist. In subsequent years, noted wildlife artists were asked to submit designs. The first contest was opened in 1949 to any U.S. artist who wished to enter, and 65 artists submitted a total of 88 design entries in the only art competition of its kind sponsored by the U.S. Government. To select each year's design, a panel of noted art, waterfowl, and philatelic authorities are appointed by the Secretary of the Interior. Winners receive no compensation for the work, except a pane of their stamps, but winners may sell prints of their designs, which are sought by hunters, conservationists, and art collectors.

The public may view the 2007 Federal Duck Stamp entries on Tuesday, September 25, 2007 and through the days of judging. This year's judging will be held on Friday, October 12 and Saturday, October 13, 2007.

Eligible Species

The following species are eligible for the 2007 contest: Mallard, American Green-winged Teal, Northern Pintail, Canvasback and Harlequin Duck. Entries featuring a species other than the above listed species will be disqualified.

Dated: September 5, 2007.
H. Dale Hall,
Director.

[FR Doc. E7-18139 Filed 9-13-07; 8:45 am]

BILLING CODE 4310-55-P